DEPARTMENT OF TRANSPORTATION

Federal Aviation Administration

14 CFR Part 39

[Docket No. FAA-2006-24200; Directorate Identifier 2006-NM-012-AD]

RIN 2120-AA64

Airworthiness Directives; Airbus Model A300 B4 Series Airplanes; Model A300 B4-600 Series Airplanes; Model A300 C4-605R Variant F Airplanes; Model A310-200 Series Airplanes; and Model A310-300 Series Airplanes

AGENCY: Federal Aviation Administration (FAA), Department of Transportation (DOT).

ACTION: Notice of proposed rulemaking (NPRM).

SUMMARY: The FAA proposes to supersede an existing airworthiness directive (AD) that applies to certain Airbus Model A300 B4-600 and A300 C4-600 series airplanes. The existing AD currently requires a one-time inspection to detect damage of the pump diffuser guide slots (bayonet) of the center tank fuel pumps, the pump diffuser housings, and the pump canisters; repetitive inspections to detect damage of the fuel pumps and the fuel pump canisters; and corrective action, if necessary. This proposed AD would add, for new airplanes, repetitive inspections of the pump bodies for cracking, damage, and missing and broken fasteners; repetitive inspections of the fuel pump canisters for a cracked flange web; and corrective actions if necessary. For all airplanes, this proposed AD would also add replacement of the fuel pump canisters with new reinforced fuel pump canisters, which ends the repetitive inspections. This proposed AD results from fuel system reviews conducted by the manufacturer. We are proposing this AD to detect and correct damage of the center tank fuel pumps and fuel pump canisters, which could result in separation of a pump from its electrical motor housing, loss of flame trap capability, and a possible fuel ignition source in the center fuel tank.

DATES: We must receive comments on this proposed AD by April 26, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Thomas Stafford, Aerospace Engineer, International Branch, ANM-116, FAA, Transport Airplane Directorate, 1601 Lind Avenue, SW., Renton, Washington 98055-4056; telephone (425) 227-1622; fax (425) 227-1149.

SUPPLEMENTARY INFORMATION:

Comments Invited

We invite you to submit any relevant written data, views, or arguments regarding this proposed AD. Send your comments to an address listed in the ADDRESSES section. Include the docket number “Docket No. FAA-2006-24200; Directorate Identifier 2006-NM-012-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On April 6, 2004, we issued AD 2004-08-03, amendment 39-13572 (69 FR 19756, April 14, 2004), for certain Airbus Model A300 B4-600 and A300 C4-600 series airplanes. That AD requires a one-time inspection to detect damage of the pump diffuser guide slots (bayonet) of the center tank fuel pumps, the pump diffuser housings, and the pump canisters; repetitive inspections to detect damage of the fuel pumps and the fuel pump canisters; and corrective action, if necessary. That AD resulted from broken fuel tank pump canisters found on Model A300 B4-600 and A300 C4-600 series airplanes. We issued that AD to detect and correct damage of the center tank fuel pumps and fuel pump canisters, which could result in separation of a pump from its electrical motor housing, loss of flame trap capability, and a possible fuel ignition source in the center fuel tank.

Actions Since Existing AD Was Issued

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (67 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, single failures in combination with another latent condition(s), and in-service failure experience. For all four criteria, the evaluations included consideration of previous actions taken that may mitigate the need for further action.

The Joint Aviation Authorities (JAA) has issued a regulation that is similar to SFAR 88. (The JAA is an associated body of the European Civil Aviation Conference (ECAC) representing the civil aviation regulatory authorities of a number of European States who have agreed to co-operate in developing and implementing common safety regulatory standards and procedures.) Under this regulation, the JAA stated that all members of the ECAC that hold type certificates for transport category airplanes are required to conduct a design review against explosion risks.

We have determined that the actions identified in this AD are necessary to reduce the potential of ignition sources inside fuel tanks, which, in combination with flammable fuel vapors, could result in fuel tank explosions and consequent loss of the airplane.

Since we issued AD 2004-08-03, the Direction Générale de l'Aviation Civile (DGAC), which is the airworthiness authority for France, has notified us that the unsafe condition addressed in that existing AD may also exist on Airbus Model A300 B4 series airplanes and Model A310-300 series airplanes. Damage to the center tank fuel pumps and fuel pump canisters, if not detected and corrected, could result in separation of a pump from its electrical motor housing, loss of flame trap capability, and a possible fuel ignition source in the center fuel tank.

Additionally, in the notice of proposed rulemaking (NPRM) (68 FR 70473, December 18, 2003) for AD 2004-08-03, we specified that the actions required by AD 2004-08-03 were considered “interim action” and that the manufacturer was developing a modification to address the unsafe condition. We indicated that we may consider further rulemaking action once the modification was developed, approved, and available. The DGAC has notified us that the manufacturer now has developed such a modification. We have determined that further rulemaking action is indeed necessary; this NPRM follows from that determination.

Other Related Rulemaking

On January 26, 2006, we issued an NPRM (71 FR 5620, February 2, 2006), Docket No. FAA-2006-23760, that proposes to supersede existing AD 2004-23-08, amendment 39-13863 (69 FR 65528, November 15, 2004). That NPRM is applicable to certain Airbus Model A300 B4-600R and A300 F4-600R series airplanes. That NPRM proposes to continue to require repetitive inspections for damage of the center tank fuel pumps and fuel pump canisters and replacement of any damaged parts, and to mandate modification of the canisters of the center tank fuel pumps, which terminates the repetitive inspections. For certain airplanes, that NPRM also proposes to require a one-time inspection of the attachment bolts of the outlet flange of the canisters of the center tank fuel pumps for bolts that are too short and do not protrude through the nut, and replacement of the bolts if necessary. We are proposing that NPRM to prevent damage to the fuel pump and fuel pump canister, which could result in loss of flame trap capability and could provide a fuel ignition source in the center fuel tank, on certain Model A300 B4-600R and A300 F4-600R series airplanes equipped with a fuel trim tank system. This proposed AD addresses the same unsafe condition on Model A300 B4-600R and A300 F4-600R series airplanes not equipped with a fuel trim tank system. That NPRM does not affect the requirements of this proposed AD.

Relevant Service Information

Airbus has issued the following service information:

Airbus airplanes | Airbus service information | Date
Model A300 B4 series airplanes | Service Bulletin A300-28-0084 | June 28, 2005.
| Service Bulletin A300-28-0085 | July 18, 2005.
Model A300 B4-600 series airplanes and Model A300 C4-605R Variant F airplanes | All Operators Telex (AOT) A300-600-28A6075, Revision 01 | October 24, 2005.
| Service Bulletin A300-28-6089, Revision 01 | November 28, 2005.
Model A310-200 and -300 series airplanes | Service Bulletin A310-28-2159 | June 28, 2005.
| Service Bulletin A310-28-2160 | July 18, 2005.

Airbus Service Bulletins A300-28-0084 and A310-28-2159 describe doing the following procedures:

• A visual inspection in the area between the impeller assembly and inducer assembly of the fuel booster pumps for cracks and missing or damaged fasteners.

• A visual inspection in the area of the guide slots (bayonet slots) of the fuel booster pumps for signs of damage.

• If any crack or damage to a fuel booster pump is found or if any fastener is missing or damaged, replacement of the pump with a new pump.

• A high frequency eddy current (HFEC) inspection of the flange webs inside the fuel pump canisters for cracks.

• If any crack is found in the flange webs of the fuel pump canisters, replacement of the fuel pump canister with a new fuel pump canister, or with a new reinforced fuel pump canister in accordance with Airbus Service Bulletin A300-28-0085 or A310-28-2160, as applicable.

Airbus AOT A300-600-28A6075, Revision 01, describes doing the following procedures:

• A one-time detailed visual inspection to detect cracks, fretting, and other damage of the lower part of the pump diffuser guide slots (bayonet) of the center tank fuel pumps and the bottom of the pump diffuser housings; and replacement of any damaged pump and its corresponding fuel pump canister with new parts.

• A one-time detailed inspection to detect cracks of the center tank fuel pump canisters, and replacement of any cracked fuel pump canister and its corresponding fuel pump with new parts.

• Repetitive detailed visual inspections to detect damage of the fuel pumps, and replacement of any damaged pump with a new part.

• Repetitive nondestructive test (NDT) inspections to detect damage to the fuel pump canisters, and replacement of any damaged canister with a new part. If a canister is replaced with a new part, the next inspection interval would be extended to 7,000 flight cycles, and thereafter repeated at intervals of 3,000 flight cycles. (The original issue of AOT A300-600-28A6075, dated February 20, 2003, and AD 2004-08-03 specify a repetitive inspection interval of 1,500 flight cycles.) Replacement of a canister ends the repetitive inspections of the fuel pumps.

• A report of inspection findings.

Airbus AOT A300-600-28A6075 refers to Airbus Alert Service Bulletin A300-28A6061, Revision 04, dated August 1, 2002, and the A300-600 Nondestructive Testing Manual (NTM) 57-10-14 as additional sources of service information for accomplishing the NDT inspections.

Airbus Service Bulletins A300-28-0085, A300-28-6089, and A310-28-2160 describe procedures for replacing the fuel pump canisters with new reinforced fuel pump canisters. Accomplishing the actions specified in the service information is intended to adequately address the unsafe condition. The DGAC mandated the service information and issued French airworthiness directive F-2005-199, dated December 7, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 2004-08-03 and would retain the requirements of the existing AD and extend the repetitive interval for certain eddy current inspections. This proposed AD would also require, for certain airplanes, repetitive detailed inspections of the pump bodies for cracking, damage, and missing and broken fasteners; repetitive HFEC inspections of the fuel pump canisters for a cracked flange web; and corrective actions if necessary. This proposed AD would also require, for all airplanes, replacement of the fuel pump canisters with new reinforced canisters. This proposed AD also contains differences with the French airworthiness directive F-2005-199, as discussed under “Differences Between the NPRM and French Airworthiness Directive.”

Differences Between the NPRM and French Airworthiness Directive

The applicability of French airworthiness directive F-2005-199 excludes the following airplanes:

• Model A300 B4-600 series airplanes and Model A300 C4-600 series airplanes, manufacturer serial numbers 546, 553, 618, and 623, on which Airbus Service Bulletin A300-28-6082 has been accomplished in service.

• Model A300 B4-600 series airplanes and Model A300 C4-600 series airplanes on which Airbus Service Bulletin A300-28-6089 has been accomplished in service.

• Model A300 series airplanes on which Airbus A300-28-0085 has been accomplished in service.

• Model A310 series airplanes on which Airbus Service Bulletin A310-28-2160 has been accomplished in service.

However, we have not excluded those airplanes in the applicability of this NPRM; rather, this NPRM includes a requirement to accomplish the actions specified in those service bulletins. This requirement would ensure that the actions specified in the service bulletins and required by this NPRM are accomplished on all affected airplanes. Operators must continue to operate the airplane in the configuration required by this NPRM unless an alternative method of compliance is approved. This difference has been coordinated with the DGAC.

The applicability of French airworthiness directive F-2005-199 also excludes all Airbus Model A300B2-100, -200, and -300 airplanes, and includes all Airbus A300-600ST airplanes except those on which Airbus Service Bulletin A300-28-2160 has been accomplished in service. However, we have not referenced any of these airplanes in the applicability of this NPRM, since these airplanes are not type certificated in the U.S.

Clarification of Inspection Terminology

The “detailed visual inspection” specified in French airworthiness directive F-2005-199 and in the referenced service information is referred to as a “detailed inspection” in this NPRM. We have updated the definition of a “detailed inspection” in Note 1 of this NPRM.

Changes to Existing AD

This NPRM would retain all requirements of AD 2004-08-03. Since AD 2004-08-03 was issued, the AD format has been revised, and certain paragraphs have been rearranged. As a result, the corresponding paragraph identifiers have changed in this NPRM, as listed in the following table:

Revised Paragraph Identifiers
Requirement in AD 2004-08-03 | Corresponding requirement in this NPRM
Paragraph (a) | Paragraph (f)
Paragraph (b) | Paragraph (g)
Paragraph (c) | Paragraph (h)
Paragraph (d) | Paragraph (i)

We have revised the applicability of the NPRM to identify model designations as published in the most recent type certificate data sheet for the affected models.

Note 2 of AD 2004-08-03 incorrectly references paragraph (b)(2) of that AD. We have revised this NPRM to reference paragraphs (g) and (h).

We have increased the repetitive interval to 3,000 flight cycles for the eddy current inspections in paragraph (g) and (h) of this NPRM to correspond with French airworthiness directive F-2005-199.

Costs of Compliance

This proposed AD would affect about 74 airplanes of U.S. registry. The following table provides the estimated costs, at an average labor rate of $80 per hour, for U.S. operators to comply with this proposed AD.

Estimated Costs
Airbus model | Action | Work hours | Parts | Cost per airplane | Number of U.S.-registered airplanes | Fleet cost
A300 B4-600 series airplanes and Model A300 C4-605R Variant F airplanes | Detailed inspection (required by AD 2004-08-03) | 2 | None | $160 | 2 | $320.
| Eddy current inspection (required by AD 2004-08-03) | 5 | None | $400, per inspection cycle | 2 | $800, per inspection cycle.
| Replacements (new proposed action) | 7 | $70 | $630 | 2 | $1,260.
A300 B4 series airplanes | Repetitive inspections (new proposed action) | 2 | None | $160, per inspection cycle | 16 | $2,560, per inspection cycle.
| Replacements (new proposed action) | 10 | $80 | $880 | 16 | $14,080.
A310-200 and -300 series airplanes | Repetitive inspections (new proposed action) | 2 | None | $160, per inspection cycle | 56 | $8,960, per inspection cycle.
| Replacements (new proposed action) | 10 | $50 | $850 | 56 | $47,600.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13572 (69 FR 19756, April 14, 2004) and adding the following new airworthiness directive (AD):

Airbus: Docket No. FAA-2006-24200; Directorate Identifier 2006-NM-012-AD.

Comments Due Date

(a) The FAA must receive comments on this AD action by April 26, 2006.

Affected ADs

(b) This AD supersedes AD 2004-08-03.

Applicability

(c) This AD applies to the Airbus airplanes identified in paragraphs (c)(1) and (c)(2) of this AD, certificated in any category.

(1) Model A300 B4-601, B4-603, B4-620, and B4-622 airplanes; and Model A300 C4-605R Variant F airplanes; except those airplanes equipped with a fuel trim tank system (that have incorporated Airbus Modification 4801).

(2) All Model A300 B4-2C, B4-103, and B4-203 airplanes; Model A310-203, -204, -221, and -222 airplanes; and Model A310-304, -322, -324, and -325 airplanes.

Unsafe Condition

(d) This AD results from fuel system reviews conducted by the manufacturer. We are issuing this AD to detect and correct damage of the center tank fuel pumps and fuel pump canisters, which could result in separation of a pump from its electrical motor housing, loss of flame trap capability, and a possible fuel ignition source in the center fuel tank.

Compliance

(e) You are responsible for having the actions required by this AD performed within the compliance times specified, unless the actions have already been done.

Restatement of Requirements of AD 2004-08-03

Detailed Inspections

(f) For Model A300 B4-601, B4-603, B4-620, and B4-622 airplanes and Model A300 C4-605R Variant F airplanes: Within 15 days after May 19, 2004 (the effective date of AD 2004-08-03) (unless accomplished previously), perform detailed inspections as specified in paragraphs (f)(1) and (f)(2) of this AD, in accordance with paragraph 4.2 of Airbus All Operators Telex (AOT) A300-600-28A6075, dated February 20, 2003; or Revision 01, dated October 24, 2005.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) Inspect the lower part of the pump diffuser guide slots (bayonet) of the center tank fuel pumps and the bottom of the pump diffuser housings to detect cracks, fretting, and other damage. Replace any damaged pump and the corresponding fuel pump canister with new parts before further flight in accordance with the AOT.

(2) Inspect the center tank fuel pump canisters to detect cracks. Replace any cracked fuel pump canister and the corresponding fuel pump with new parts before further flight in accordance with the AOT.

Repetitive Inspections With New Repetitive Intervals

(g) For Model A300 B4-601, B4-603, B4-620, and B4-622 airplanes and Model A300 C4-605R Variant F airplanes: Within 600 flight hours after May 19, 2004, perform a detailed inspection of the fuel pumps, and an eddy current inspection of the fuel pump canisters, to detect damage. Do the inspections in accordance with paragraph 4.3 of Airbus AOT A300-600-28A6075, dated February 20, 2003; or Revision 01, dated October 24, 2005. Replace any damaged part with a new part before further flight in accordance with the AOT. Repeat the inspections at intervals not to exceed 3,000 flight cycles.

(h) For Model A300 B4-601, B4-603, B4-620, and B4-622 airplanes and Model A300 C4-605R Variant F airplanes: Within 7,000 flight cycles after canister replacement as specified in paragraph (g) of this AD, perform an eddy current inspection of the fuel pump canisters to detect damage in accordance with Airbus AOT A300-600-28A6075, dated February 20, 2003; or Revision 01, dated October 24, 2005. Replace any damaged part with a new part before further flight in accordance with the AOT. Thereafter repeat the inspection at intervals not to exceed 3,000 flight cycles.

Note 2: Airbus AOT A300-600-28A6075 refers to Airbus Alert Service Bulletin A300-28A6061, Revision 04, dated August 1, 2002, as an additional source of service information for accomplishment of the eddy current inspection required by paragraphs (g) and (h) of this AD.

Reporting Requirement

(i) For Model A300 B4-601, B4-603, B4-620, and B4-622 airplanes and Model A300 C4-605R Variant F airplanes: At the applicable time specified in paragraph (i)(1) or (i)(2) of this AD, submit a report of findings (both positive and negative) of each inspection required by this AD, in accordance with Airbus AOT A300-600-28A6075, dated February 20, 2003. Information collection requirements contained in this AD have been approved by the Office of Management and Budget (OMB) under the provisions of the Paperwork Reduction Act of 1980 (44 U.S.C. 3501 et seq.) and have been assigned OMB Control Number 2120-0056.

(1) For any inspection accomplished after May 19, 2004: Submit the report within 10 days after performing that inspection.

(2) For any inspection accomplished before May 19, 2004: Submit the report within 10 days after May 19, 2004.

Requirements of This AD

Repetitive Inspections for New Airplanes

(j) For Model A300 B4-2C, B4-103, and B4-203 airplanes; Model A310-203, -204, -221, and -222 airplanes; and Model A310-304, -322, -324, and -325 airplanes: At the applicable compliance time specified in paragraphs (j)(1) and (j)(2) of this AD, do a detailed inspection of the pump bodies for cracking, damage, and missing and broken fasteners; and do a high frequency eddy current (HFEC) inspection of the fuel pump canisters for a cracked flange web, in accordance with the Accomplishment Instructions of Airbus Service Bulletin A300-28-0084, dated June 28, 2005 (for Model A300 B4-2C, B4-103, and B4-203 airplanes); or Airbus Service Bulletin A310-28-2159, dated June 28, 2005 (for Model A310-203, -204, -221, and -222 airplanes and Model A310-304, -322, -324, and -325 airplanes), as applicable. If any crack or damage to the pump bodies is found or any missing or broken fastener is found, before further flight, replace the fuel pump with a new fuel pump in accordance with the applicable service bulletin. Repeat the detailed inspection of the pump bodies thereafter at intervals not to exceed 3,000 flight cycles. If no cracked flange web is found, repeat the HFEC inspection of the fuel pump canisters thereafter at intervals not to exceed 3,000 flight cycles. Accomplishing the replacements specified in paragraph (l) of this AD terminates the repetitive detailed and HFEC inspections.

(1) For Model A300 B4-2C, B4-103, and B4-203 airplanes: Inspect before the airplane has accumulated 19,600 total flight cycles, or within 1,000 flight cycles after the effective date of this AD, whichever is later.

(2) For Model A310-203, -204, -221, and -222 airplanes and Model A310-304, -322, -324, and -325 airplanes: Inspect before the airplane has accumulated 27,000 total flight cycles, or within 1,000 flight cycles after the effective date of this AD, whichever is later.

Corrective Action for Cracked Flange Web

(k) For Model A300 B4-2C, B4-103, and B4-203; Model A310-203, -204, -221, and -222 airplanes; and Model A310-304, -322, -324, and -325 airplanes: If any flange web is found cracked during any HFEC inspection required by paragraph (j) of this AD, before further flight after the inspection, replace the fuel pump canister with a new fuel pump canister in accordance with the Accomplishment Instructions of Airbus Service Bulletin A300-28-0084, dated June 28, 2005; or Airbus Service Bulletin A310-28-2159, dated June 28, 2005, as applicable. Repeat the HFEC inspection at the applicable compliance times specified in paragraph (k)(1) or (k)(2) of this AD, until the replacements specified in paragraph (l) of this AD are accomplished.

(1) For Model A300 B4-2C, B4-103, and B4-203 airplanes: Inspect within 19,600 flight cycles after replacing the fuel pump canisters and thereafter at intervals not to exceed 3,000 flight cycles.

(2) For Model A310-203, -204, -221, and -222 airplanes and Model A310-304, -322, -324, and -325 airplanes: Inspect within 27,000 flight cycles after replacing the fuel pump canisters and thereafter at intervals not to exceed 3,000 flight cycles.

Terminating Action: Replacement of Fuel Pump Canisters

(l) For all airplanes: Within 66 months after the effective date of this AD, replace the fuel pump canisters with new reinforced fuel pump canisters, in accordance with the Accomplishment Instructions of Airbus Service Bulletin A300-28-0085, dated July 18, 2005 (for Model A300 B4-2C, B4-103, and B4-203 airplanes); Airbus Service Bulletin A300-28-6089, Revision 01, dated November 28, 2005 (for Model A300 B4-601, B4-603, B4-620, and B4-622 airplanes and Model A300 C4-605R Variant F airplanes); or Airbus Service Bulletin A310-28-2160, dated July 18, 2005 (for Model A310-203, -204, -221, and -222 airplanes and Model A310-304, -322, -324, and -325 airplanes), as applicable. Replacement of a fuel pump canister terminates the repetitive inspections required by paragraphs (f), (g), (h), (j) and (k), as applicable, for that fuel pump canister only.

Credit for Previous Service Bulletin

(m) For Model A300 B4-601, B4-603, B4-620, and B4-622 airplanes and Model A300 C4-605R Variant F airplanes: Actions done before the effective date of this AD in accordance with Airbus Service Bulletin A300-28-6089, dated July 18, 2005, are acceptable for compliance with the requirements of paragraph (l) of this AD.

Alternative Methods of Compliance (AMOCs)

(n)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(o) French airworthiness directive F-2005-199, dated December 7, 2005, also addresses the subject of this AD.

Issued in Renton, Washington, on March 10, 2006.
Kalene C. Yanamura,
Acting Manager, Transport Airplane Directorate, Aircraft Certification Service.

[FR Doc. E6-4407 Filed 3-24-06; 8:45 am]

BILLING CODE 4910-13-P